DEPARTMENT OF ENERGY

Federal Energy Regulatory Commission

[Docket No. IC04-574-001, FERC-574]

Commission Information Collection Activities, Proposed Collection; Comment Request; Submitted for OMB Review

November 5, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of August 20, 2004 (69 FR 51649-50), and has made this notification in its submission to OMB.

DATES: Comments on the collection of information are due by December 10, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-4650. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-574-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-574 “Gas Pipeline Certificates: Hinshaw Exemption”.

2. Sponsor: Federal Energy Regulatory Commission.

3. Control No.: 1902-0116.

The Commission is now requesting that OMB approve and reinstate with a three-year extension of the expiration date, with no changes to the existing collection. The information filed with the Commission is mandatory.

4. Necessity of the Collection of Information: Submission of this information is necessary to enable the Commission to carry out its responsibilities in implementing the statutory provisions of sections 1(c), 4, 7, 10(a) and 16 of the Natural Gas Act (NGA). Natural gas pipeline companies file applications with the Commission furnishing information in order for a determination to be made as to whether the applicant qualifies for an exemption from the provisions of the Natural Gas Act (section 1(c)).

The exemption applies to companies engaged in the transportation or sale for resale of natural gas in interstate commerce if: (a) It receives gas at or within the boundaries of the state from another person; (b) such gas is transported, sold, consumed within such state; and (c) the rates, service and facilities of such company are subject to the regulation by a State Commission. The data required to be filed by a pipeline companies is specified by 18 Code of Federal Regulations (CFR) part 152.

5. Respondent Description: The respondent universe currently comprises 1 natural gas company (on average per year) subject to the Commission's jurisdiction.

6. Estimated Burden: 245 total hours, 1 respondent (average per year), 1 response per respondent, and 245 hours per response (average).

7. Estimated Cost Burden to Respondents: 245 hours / 2080 hours per years × $107,185 per year = $12,625.

Statutory Authority: Sections 1(c), 4, 7 of the Natural Gas Act (15 U.S.C. 717-717w).

Magalie R. Salas,
Secretary.

[FR Doc. 04-25162 Filed 11-10-04; 8:45 am]

BILLING CODE 6717-01-P